COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action adds products and services to the Procurement List that will be furnished by nonprofit agencies employing persons who are blind or have other severe disabilities, and deletes products and services from the Procurement List previously furnished by such agencies.

DATES: Date deleted from the Procurement List: November 11, 2018.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Deletions

On 9/7/2018 (83 FR 174), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s): 8465-01-463-4649—Tent Bag, Personal Gear Pack

Mandatory Source of Supply: Helena Industries, Inc., Helena, MT

Contracting Activity: Defense Logistics Agency Troop Support

NSN(s)—Product Name(s):

8415-00-782-2949—Trousers, Cold Weather, Unisex, Green, XSmall-Long

8415-00-782-2950—Trousers, Cold Weather, Unisex, Green, Small-Short

8415-00-782-2951—Trousers, Cold Weather, Unisex, Green, Small-Regular

8415-00-782-2952—Trousers, Cold Weather, Unisex, Green, Small-Long

8415-00-782-2953—Trousers, Cold Weather, Unisex, Green, Medium-Short

8415-00-782-2954—Trousers, Cold Weather, Unisex, Green, Medium-Regular

8415-00-782-2955—Trousers, Cold Weather, Unisex, Green, Medium-Long

8415-00-782-2956—Trousers, Cold Weather, Unisex, Green, Large-Short

8415-00-782-2957—Trousers, Cold Weather, Unisex, Green, Large-Regular

8415-00-782-2958—Trousers, Cold Weather, Unisex, Green, Large-Long

8415-00-782-2959—Trousers, Cold Weather, Unisex, Green, Large-Short

8415-00-782-2960—Trousers, Cold Weather, Unisex, Green, Large-Regular

8415-00-782-2961—Trousers, Cold Weather, Unisex, Green, Large-Long

Mandatory Source of Supply: Goodwill Industries of South Florida, Inc., Miami, FL

Contracting Activity: Defense Logistics Agency Troop Support

NSN(s)—Product Name(s):

MR 376—Resealable Bags, Holiday, 6.5″ x 5.875″

MR 379—Storage Containers, Holiday, 12 oz. or 16 oz., 6PK

Mandatory Source of Supply: Winston-Salem Industries for the Blind, Inc., Winston-Salem, NC

Contracting Activity: Defense Commissary Agency

Services

Service Type: Distribution of Licensed Products for the G.R.E.AT

Mandatory for: Department of the Treasury, Bureau of ATF, 650 Massachusetts Ave., Washington, DC

Mandatory Source of Supply: Industries for the Blind and Visually Impaired, Inc., West Allis, WI

Contracting Activity: DEPARTMENT OF THE TREASURY

Service Type: Mailing Support Service

Mandatory for: Bureau of Public Debt (Offsite: 750 23rd St., Arlington, VA), 200 Third Street, Parkersburg, WV

Mandatory Source of Supply: Linden Resources, Inc., Arlington, VA

Contracting Activity: BUREAU OF THE FISCAL SERVICE, PSB 3

Service Type: Custodial and Related Service

Mandatory for: GSA, PBS Region 2, Michael J. Dillon U.S. Federal Courthouse, 68 Court Street, Buffalo, NY

Mandatory Source of Supply: Human Technologies Corporation, Utica, NY

Contracting Activity: PUBLIC BUILDINGS SERVICE, GSA PBS R2 ACQUISITION MANAGEMENT DIVISION

Service Type: Janitorial/Custodial Service

Mandatory for: Vancouver Army Barracks, Vancouver, WA

Mandatory Source of Supply: Relay Resources, Portland, OR

Contracting Activity: Dept of the Army, W40M NORTHEREGION CONTRACT OFC

Service Type: Mailroom Service

Mandatory for: National Labor Relations Board, HQ, 1099 14th Street NW, Washington, DC

Mandatory Source of Supply: Linden Resources, Inc., Arlington, VA

Contracting Activity: National Labor Relations Board

Service Type: Mailroom Operation Service

Mandatory for: U.S. Army Corps of Engineers: 20 Massachusetts Avenue, Pulaski Building, Washington, DC

Mandatory Source of Supply: Linden Resources, Inc., Arlington, VA

Contracting Activity: Dept of the Army, W40M NORTHEREGION CONTRACT OFC

Service Type: Janitorial/Custodial Service

Mandatory for: Naval Command Control & Ocean Surveillance Center: East Coast Division Complex (trailers/laboratories), Charleston, SC

Mandatory Source of Supply: Palmetto Goodwill Services, North Charleston, SC

Contracting Activity: DEPT OF THE NAVY, NAVFAC SOUTHEAST

Service Type: Grounds Maintenance Service

Mandatory for: Lake Sonoma/Warm Springs Dam, Geyserville, CA

Mandatory Source of Supply: Unknown

Contracting Activity: Dept of the Army, W40M NORTHEREGION CONTRACT OFC

Service Type: Janitorial/Custodial Service

Mandatory for: Environmental Protection Agency: Standard Chlorine Site, Delaware City, DE

Mandatory Source of Supply: The Chimes, Inc., Baltimore, MD

Contracting Activity: ENVIRONMENTAL PROTECTION AGENCY

Service Type: Warehouse Operation Service

Mandatory for: National Labor Relations Board HQ, 1099 14th Street, Washington, DC

Mandatory Source of Supply: Linden Resources, Inc., Arlington, VA

Contracting Activity: NATIONAL LABOR RELATIONS BOARD

Service Type: Reproduction Service

Mandatory for: Army Materiel Command Headquarters, Alexandria, VA

Mandatory Source of Supply: Linden Resources, Inc., Arlington, VA

Contracting Activity: Dept of the Army, W40M NORTHEREGION CONTRACT OFC

Service Type: Mailroom Operation Service

Mandatory for: Fort Stewart, 1042 William H. Wilson Avenue, Suite 219, Fort Stewart, GA

Mandatory Source of Supply: Abilities, Inc. of Florida, Clearwater, FL

Contracting Activity: Dept of the Army, W40M NORTHEREGION CONTRACT OFC

Service Type: Custodial Service

Mandatory for: Consumer Financial Protection Bureau, (Limited areas Floors 1, 3, 4 & 5), 1625 Eye Street NW, Washington, DC

Mandatory Source of Supply: Service Disabled Veterans Business Association, Silver Springs, MD

Contracting Activity: CONSUMER FINANCIAL PROTECTION BUREAU, CFPB PROCUREMENT

Service Type: Janitorial/Custodial Service

Mandatory for: U.S. Army Reserve Center: Los Angeles, Hazard Park, Los Angeles, CA

Mandatory Source of Supply: Lincoln Training Center and Rehabilitation Workshop, South El Monte, CA

Contracting Activity: Dept of the Army, W40M NORTHEREGION CONTRACT OFC

Michael R. Jurkowski,
Business Management Specialist, Business Operations.

[FR Doc. 2018-22259 Filed 10-11-18; 8:45 am]

BILLING CODE 6353-01-P